NUCLEAR REGULATORY COMMISSION

[Docket Nos. 50-325 and 50-324]

Carolina Power & Light Company; Biweekly Notice; Applications and Amendments to Facility Operating Licenses Involving No Significant Hazards Considerations; Correction

AGENCY: Nuclear Regulatory Commission.

ACTION: Notice of Issuance; Correction.

SUMMARY: This document corrects a notice appearing in the Federal Register on February 1, 2005 (70 FR 5233), that incorrectly listed H. B. Robinson Steam Electric Plant, Unit No. 2 in addition to Brunswick Steam Electric Plant, Units 1 and 2 in the title, and garbled the description of the amendments. This action is necessary to correct the erroneous notice in its entirety.

FOR FURTHER INFORMATION CONTACT: Brenda L. Mozafari, Office of Nuclear Reactor Regulation, U.S. Nuclear Regulatory Commission, Washington, DC 20555-0001; telephone (301) 415-2020, e-mail: blm@nrc.gov.

SUPPLEMENTARY INFORMATION: On page 5251, in the first column, the notice for Carolina Power & Light Company is changed in its entirety to read as follows:

Carolina Power & Light Company, Docket Nos. 50-325 and 50-324, Brunswick Steam Electric Plant, Units 1 and 2, Brunswick County, North Carolina

Date of application for amendments: December 19, 2003, as supplemented January 14, 2004.

Brief Description of amendments: The amendments modify Technical Specification requirements to adopt the provisions of Industry/Technical Specification Task Force (TSTF) change 359, “Increase Flexibility in Mode Restraints.”

Date of issuance: January 11, 2005.

Effective date: January 11, 2005.

Amendment Nos.: 233 and 260.

Facility Operating License Nos. DPR-71 and DPR-62: Amendments change the Technical Specifications.

Date of initial notice in Federal Register: February 17, 2004 (69 FR 7519).

The Commission's related evaluation of the amendments is contained in a Safety Evaluation dated January 11, 2005.

No significant hazards consideration comments received: No.

Dated in Rockville, Maryland, this 2nd day of February 2005.
For the Nuclear Regulatory Commission.
Ledyard B. Marsh,
Director, Division of Licensing Project Management, Office of Nuclear Reactor Regulation.

[FR Doc. 05-2787 Filed 2-11-05; 8:45 am]

BILLING CODE 7590-01-P